DEPARTMENT OF ENERGY

Federal Energy Regulatory Commission

Combined Notice of Filings #1

Take notice that the Commission received the following electric rate filings:

Docket Numbers: ER16-1411-002.

Applicants: CNR Energy LLC.

Description: Notice of Change in Status of CNR Energy LLC.

Filed Date: 4/3/17.

Accession Number: 20170403-5638.

Comments Due: 5 p.m. ET 4/24/17.

Docket Numbers: ER17-1379-000.

Applicants: Southwest Power Pool, Inc.

Description: § 205(d) Rate Filing: Revisions to Attachment AE Section 8.4 Re-Pricing Clarification to be effective 6/3/2017.

Filed Date: 4/4/17.

Accession Number: 20170404-5247.

Comments Due: 5 p.m. ET 4/25/17.

Docket Numbers: ER17-1380-000.

Applicants: PJM Interconnection, L.L.C.

Description: § 205(d) Rate Filing: ISA Service Agreement No. 4663, Queue Position AB1-181 to be effective 3/7/2017.

Filed Date: 4/5/17.

Accession Number: 20170405-5167.

Comments Due: 5 p.m. ET 4/26/17.

Docket Numbers: ER17-1381-000.

Applicants: AEM Wind, LLC.

Description: Baseline eTariff Filing: Application for Market Based Rate to be effective 6/7/2017.

Filed Date: 4/5/17.

Accession Number: 20170405-5174.

Comments Due: 5 p.m. ET 4/26/17.

Docket Numbers: ER17-1382-000.

Applicants: Southern California Edison Company.

Description: § 205(d) Rate Filing: Two DSA's Three Valley MWD Williams and Fulton Projects SA Nos. 955-956 to be effective 3/31/2017.

Filed Date: 4/5/17.

Accession Number: 20170405-5232.

Comments Due: 5 p.m. ET 4/26/17.

Docket Numbers: ER17-1383-000.

Applicants: Southern California Edison Company.

Description: § 205(d) Rate Filing: GIA & DSA SEPV Kennedy Project SA Nos. 953-954 to be effective 6/5/2017.

Filed Date: 4/5/17.

Accession Number: 20170405-5233.

Comments Due: 5 p.m. ET 4/26/17.

Docket Numbers: ER17-1384-000.

Applicants: Southern California Edison Company.

Description: § 205(d) Rate Filing: GIA & DSA Green Beanworks B Project SA Nos. 931-932 to be effective 6/5/2017.

Filed Date: 4/5/17.

Accession Number: 20170405-5234.

Comments Due: 5 p.m. ET 4/26/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 5, 2017.
Kimberly D. Bose,
Secretary.

[FR Doc. 2017-07239 Filed 4-10-17; 8:45 am]

BILLING CODE 6717-01-P